FEDERAL HOUSING FINANCE AGENCY

[No. 2021-N-4]

Privacy Act of 1974; System of Records

AGENCY: Office of Inspector General, Federal Housing Finance Agency (FHFA-OIG).

ACTION: Notice of amendments and additions to the routine uses for FHFA-OIG's Privacy Act systems of records (SORs), updates, rewording, and technical changes to the system name, system location, categories of individuals covered by the system, categories of records in the system, purpose(s), retrievability, safeguards, retention and disposal, system manager(s) and address, notification procedures, record source categories, and exemptions claimed for one or more of FHFA-OIG's existing systems, and the creation of a new Privacy Act system of records (SOR).

SUMMARY: In accordance with the Privacy Act of 1974, as amended and the Office of Management and Budget (OMB) Circular A-108 System of Records Notice template, FHFA-OIG gives notice of amendments and additions to the routine uses for FHFA-OIG's Privacy Act systems of records (SORs) and technical changes thereto, updates to system name, system location, categories of individuals covered by the system, categories of records in the system, purpose(s), retrievability, safeguards, retention and disposal, system manager(s) and address, notification procedures, record source categories, exemptions claimed for one or more of FHFA-OIG's existing systems of record, and the creation of a new Privacy Act SOR for the Office of Counsel. The six existing SORs are being re-published in their entirety to conform their formats to the Circular A-108 SORN template. The amendments and additions to the existing systems and the new system are described in detail below.

DATES: Comments must be received on or before April 8, 2021. The amended and additional routine uses and the technical revisions to FHFA-OIG's existing SORs, and the new SOR, will become effective without further notice on April 19, 2021, unless comments received on or before that date result in revisions to this notice.

ADDRESSES: Submit comments to FHFA only once, identified by “FHFA-OIG SORN,” using any one of the following methods:

• Email: Leonard.DePasquale@fhfaoig.gov. Comments may be sent by email to Leonard DePasquale, FHFA-OIG Chief Counsel. Please include “Comments/FHFA-OIG SORN” in the subject line of the message. Comments will be made available for inspection upon written request.

• Federal eRulemaking Portal: http://www.regulations.gov. Follow the instructions for submitting comments. If you submit your comment to the Federal eRulemaking Portal, please also send it by email to FHFA at Leonard.DePasquale@fhfaoig.gov to ensure timely receipt by the agency. Please include “Comments/FHFA-OIG SORN” in the subject line of the message.

• U.S. Mail, United Parcel Service, Federal Express, or Other Mail Service: Leonard DePasquale, Chief Counsel, Office of Inspector General, Federal Housing Finance Agency, 400 7th Street SW, Washington, DC 20219.

• Courier/Hand Delivered Letters or Packages: For security reasons, courier/hand delivered letters or packages cannot be accepted.

See SUPPLEMENTARY INFORMATION for additional information on posting of comments.

FOR FURTHER INFORMATION CONTACT: Leonard DePasquale, Chief Counsel, Office of Inspector General, Federal Housing Finance Agency, 400 7th Street SW, Washington, DC 20219, or at (202) 730-2830. Hearing impaired individuals may utilize the Federal Relay Service by dialing 1-800-877-8339. A Communications Assistant will dial FHFA-OIG's number and relay the conversation between a standard (voice) telephone user and text telephone (TTY).

SUPPLEMENTARY INFORMATION:

I. Comments

Instructions: FHFA-OIG seeks public comments on the amended and additional routine uses and will take all comments into consideration. See 5 U.S.C. 552a(e)(4) and (11).

Posting and Public Availability of Comments: All comments received will be posted without change on the FHFA-OIG website at http://www.fhfaoig.gov, and will include any personal information provided, such as name, address (mailing and email), and telephone numbers.

II. Background

The Federal Housing Finance Regulatory Reform Act of 2008 (Reform Act), which was passed as Division A of the Housing and Economic Recovery Act of 2008 (HERA) abolished both the Federal Housing Finance Board (FHFB), an independent agency that oversaw the Federal Home Loan Banks (FHLBanks), and the Office of Federal Housing Enterprise Oversight (OFHEO), an office within the Department of Housing and Urban Development (HUD) that oversaw the “safety and soundness” of the Federal Home Loan Mortgage Corporation (Freddie Mac) and the Federal National Mortgage Association (Fannie Mae). See Public Law 110-289, sections 1301 and 1311, 122 Stat. 2654, 2794 and 2797 (codified at 12 U.S.C. 4511 note); H.R. Rep. No. 110-142, at 95. The Reform Act established in place of the FHFB and OFHEO a new entity, the Federal Housing Finance Agency (FHFA), to regulate and supervise Fannie Mae, Freddie Mac, and the 12 FHLBanks. See Public Law 110-289, section 1101, 122 Stat. 2654, 2661 (codified at 12 U.S.C. 4511).

The Reform Act also requires the appointment of an Inspector General within FHFA, in accordance with section 3a of the Inspector General Act of 1978 (the IG Act). See Public Law 110-289, section 1105, 122 Stat. 2668 (codified at 12 U.S.C. 4517(d)). FHFA-OIG is responsible for, among other things, conducting audits, investigations, and evaluations of FHFA's programs and operations; recommending policies that promote economy and efficiency in the administration of FHFA's programs and operations; and preventing and detecting fraud and abuse in FHFA's programs and operations. See IG Act, Public Law 95-452, 92 Stat. 1101 (codified at 5 U.S.C. App.).

FHFA-OIG began operations in October of 2010. Although FHFA's SORs covered many of FHFA-OIG's records, some of those records were unique to FHFA-OIG's work. As a result, on March 2, 2011, FHFA-OIG issued a Federal Register notice establishing five SORs (76 FR 11465). On November 1, 2013, FHFA-OIG issued another Federal Register notice adding a new SOR and amending and updating the existing SORs (78 FR 65644). In the five years since the last update, FHFA-OIG's approach to implementing its mission has evolved and matured. To better reflect where our work is taking us and how we conduct our business some aspects of the earlier SORs should be amended.

Certain updates, rewording, and technical changes are being made to one or more of the following sections of the existing SORs: System name, system location, categories of individuals covered by the system, categories of records in the system, purpose(s), routine uses, retrievability, safeguards, retention and disposal, system manager(s) and address, notification procedures, record source categories, and exemptions claimed for the system. In addition, several new routine uses are being added to enable FHFA-OIG to implement its mission under the IG Act more efficiently and to enhance transparency in reporting the results of our audits, evaluations, investigations, and other inquiries.

During the course of updating its existing SORs, FHFA-OIG determined that records concerning hotline complaints and inquiries conducted by FHFA-OIG's Office of Investigations are already housed in the Office of Investigations' two existing SORs—FHFA-OIG-2 and FHFA-OIG-3. Thus, with regard to these types of complaints and inquiries, the existing Hotline Database (FHFA-OIG-4) is superfluous. FHFA-OIG is making minor modifications to reflect that hotline complaints and inquiries undertaken by the Office of Investigations are already covered by the two existing SORs (FHFA-OIG-2 and FHFA-OIG-3).

Rather than eliminating the existing Hotline Database SOR (FHFA-OIG-4), FHFA-OIG is repurposing it to house records pertaining to non-criminal administrative inquiries conducted by any FHFA-OIG operational division other than the Office of Investigations. FHFA-OIG has assigned responsibility for non-criminal administrative inquiries to its operational divisions and desires records pertaining to these matters to be stored in a SOR separate from any SOR that contains investigative records generated and/or collected by FHFA-OIG's Office of Investigations. Thus, to better align its SORs with its multidisciplinary approach to these inquiries, FHFA-OIG is designating the existing Hotline Database (FHFA-OIG-4) to store records pertaining to non-criminal administrative inquiries that are conducted by any FHFA-OIG operational division other than the Office of Investigations.

Finally, a SOR is being added for FHFA-OIG's Freedom of Information Act (FOIA), Privacy Act (PA), and Freedom of Information Act/Privacy Act (FOPA) records. Although FHFA-OIG's FOIA, PA, and FOPA records are covered under FHFA's FOIA and PA SOR, FHFA-OIG has decided to adopt its own SOR for FOIA, PA, and FOPA records so that the routine uses for these records are aligned with the routine uses for FHFA-OIG's other SORs. Because documents FHFA-OIG produces in response to FOIA, PA, and FOPA requests are often records that are contained in FHFA-OIG's other SORs, it is more logical for FHFA-OIG's FOIA, PA, and FOPA routine uses to mirror those of the SORs from which these records may originate. Thus, the main reason FHFA-OIG is creating a SOR for its FOIA, PA, and FOPA records is to achieve this symbiosis. FHFA-OIG is also creating this SOR to make clear that some requests are processed under both the FOIA and PA. FHFA-OIG believes it is more appropriate that its SOR reflect this hybrid category of records (i.e., FOPA).

Sections 552a(e)(4) and (11) of title 5, United States Code, require that an agency publish a notice of the establishment or revision of a SOR which affords the public a 30-day period in which to submit comments. To meet this requirement, FHFA-OIG's SORs are set forth in their entirety below. Further, a report of FHFA-OIG's intention to amend and supplement its routine uses, update other portions of its existing SORs, and add a new SOR has been submitted to the Committee on Oversight and Government Reform of the House of Representatives, the Committee on Homeland Security and Governmental Affairs of the Senate, and to OMB, as required by the Privacy Act, 5 U.S.C. 552a(r) and pursuant to section 7 of OMB Circular A-108, “Federal Agency Responsibilities for Review, Reporting, and Publication under the Privacy Act,” dated December 23, 2016 (81 FR 94424 (Dec. 23, 2016)).

III. Proposed Systems of Records

The proposed changes to the existing SORs are described in detail below:

FHFA-OIG-1

SYSTEM NAME AND NUMBER:

FHFA-OIG Audit Files Database (FHFA-OIG-1).

SECURITY CLASSIFICATION:

Sensitive but unclassified.

SYSTEM LOCATION:

FHFA-OIG, 400 7th Street SW, Washington, DC 20219, and any alternate work site utilized by FHFA-OIG employees or by individuals assisting such employees.

SYSTEM MANAGER(S):

Deputy Inspector General for Audits, Office of Inspector General, Federal Housing Finance Agency, 400 7th Street SW, Washington, DC 20219.

AUTHORITY FOR MAINTENANCE OF THE SYSTEM:

The system is established and maintained pursuant to 12 U.S.C. 4517(d) and 5 U.S.C. App. 3.

PURPOSE(S) OF THE SYSTEM:

This system is maintained to enable Office of Audits' employees to access, share, restrict, or maintain information that has been collected and/or generated as part of an audit, as appropriate. Materials relating to an audit may or may not become part of the official audit file. The system also serves as a storage and filing system for working copies, drafts, and final versions of documents collected and/or generated by the Office of Audits in the performance of other official duties.

CATEGORIES OF INDIVIDUALS COVERED BY THE SYSTEM:

Employees of and detailees to the Office of Audits and subjects or potential subjects of audit activities and individuals who may be, are, or have been witnesses, complainants, informants, subjects, or otherwise involved in circumstances pertaining or relating to official activities conducted by FHFA-OIG's Office of Audits.

CATEGORIES OF RECORDS IN THE SYSTEM:

Drafts and final documents of the following types: (1) Audit reports; (2) working papers, which may include copies of correspondence, evidence, subpoenas; and (3) other documents collected and/or generated by the Office of Audits during the course of official duties, including information from FHFA-OIG's other systems of records.

RECORD SOURCE CATEGORIES:

The OIG collects information from a variety of sources, including FHFA, FHFA's regulated entities, current and former employees of FHFA, other federal agencies/regulators, law enforcement agencies, vendors, contractors, subcontractors, subject individuals, complainants, witnesses, and informants. Records in this system may have originated in other FHFA/FHFA-OIG systems of records and subsequently transferred to this system.

ROUTINE USES OF RECORDS MAINTAINED IN THE SYSTEM, INCLUDING CATEGORIES OF USERS AND THE PURPOSES OF SUCH USES:

These records may be disclosed:

(1) To appropriate Federal, state, local, foreign, territorial, tribal units of government, other public authorities, or self-regulatory organizations responsible for investigating or prosecuting the violations of, or for enforcing or implementing, a statute, rule, regulation, order, or license, when the information indicates a violation or potential violation of law, whether civil, criminal, or regulatory in nature, and whether arising by general statute or particular program statute, or by regulation, rule, or order issued pursuant thereto or is relevant to the recipient entity's law enforcement responsibilities;

(2) To a court, magistrate, grand jury, administrative tribunal, or adjudicative body in the course of presenting evidence, including disclosures to opposing counsel or witnesses in the course of civil discovery, litigation, or settlement negotiations, in response to a subpoena, or in connection with criminal law proceedings, including plea agreements, when OIG is a party or has a significant interest in the proceeding, to the extent that the information is determined to be relevant and necessary;

(3) To an individual member of Congress or a member of his/her staff in response to an inquiry made at the request of the individual who is the subject of the record;

(4) To another Federal agency, state, local, foreign, territorial, tribal units of government, other public authorities, or self-regulatory organizations to (a) permit a decision as to access, amendment or correction of records to be made in consultation with or by that agency or entity, or (b) verify the identity of an individual or the accuracy of information submitted by an individual who has requested access to or amendment or correction of records;

(5) To the Department of Justice, outside counsel retained by FHFA-OIG, or another Federal agency's legal representative when seeking legal advice, including, but not limited to, whether to release information covered by the Freedom of Information (5 U.S.C. 552) and Privacy Acts (5 U.S.C. 552a) or when the Department of Justice or outside counsel retained by FHFA-OIG is representing FHFA-OIG or any FHFA-OIG employee in his or her official or individual capacity; or when FHFA-OIG is a party to litigation or settlement negotiations or has an interest in litigation or settlement negotiations being conducted by the Department of Justice or outside counsel retained by FHFA-OIG and FHFA-OIG has determined such information to be relevant and necessary to the litigation or settlement negotiations;

(6) To another Federal Office of the Inspector General, law enforcement Task Force, or other Federal, state, local, foreign, territorial, or tribal unit of government, other public authorities, or self-regulatory organizations for the purpose of preventing and/or identifying fraud, waste, or abuse related to FHFA's programs or operations;

(7) To the National Archives and Records Administration for use in records management inspections;

(8) To appropriate agencies, entities, and persons when (1) FHFA-OIG suspects or has confirmed that there has been a breach of the system of records; (2) FHFA-OIG has determined that as a result of the suspected or confirmed breach there is a risk of harm to individuals, FHFA-OIG (including its information systems, programs, and operations), the Federal Government, or national security; and (3) the disclosure made to such agencies, entities, and persons is reasonably necessary to assist in connection with FHFA-OIG's efforts to respond to the suspected or confirmed breach or to prevent, minimize, or remedy such harm;

(9) To another Federal agency or Federal entity, when FHFA-OIG determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

(10) To any person or entity, either private or governmental, that FHFA-OIG has reason to believe possesses information regarding a matter within the jurisdiction of FHFA-OIG, to the extent deemed to be necessary by FHFA-OIG to elicit information or cooperation from the recipient for use in the performance of an authorized activity relevant to an FHFA-OIG audit, evaluation, investigation, or inquiry;

(11) To the Equal Employment Opportunity Commission, Merit Systems Protection Board, Federal Labor Relations Authority, Office of Special Counsel, Office of Government Ethics (OGE), Office of Personnel Management, Government Accounting Office, Department of Justice, Office of Management and Budget, arbitrators, and any other Federal agencies or other entity responsible for conducting investigations, other inquiries, administrative actions, hearings, and/or settlement efforts relating to personnel, security clearance, security or suitability or other administrative grievances, complaints, claims, or appeals filed by an employee, or if needed in the performance of other authorized duties;

(12) In situations involving an imminent danger of death or physical injury to an individual or individuals in danger;

(13) To other Federal Offices of Inspector General or other entities, during the conduct of internal and external peer reviews of FHFA-OIG;

(14) To the public or to the media for release to the public when the matter under audit, review, evaluation, investigation, or inquiry has become public knowledge, or when the Inspector General determines that such disclosure is necessary either to preserve confidence in the integrity of FHFA-OIG's audit, review, evaluation, investigative, or inquiry processes or is necessary to demonstrate the accountability of FHFA-OIG employees, officers or individuals covered by the system, unless the Inspector General or his/her delegee determines, after consultation with counsel and the Senior Privacy Official, that release of the specific information in the context of a particular case would constitute an unwarranted invasion of personal privacy;

(15) To Congress, congressional committees, or the staffs thereof, once an FHFA-OIG report or management alert has become final and the Inspector General determines that its disclosure is necessary to fulfill the Inspector General's responsibilities under the Inspector General Act of 1978;

(16) To contractors, experts, consultants, students, and others engaged by FHFA-OIG, when necessary to accomplish an agency function related to this system of records;

(17) To a Federal agency or other entity which requires information relevant to a decision concerning the hiring, appointment, or retention of an employee or contractor; the assignment, detail, or deployment of an employee or contractor; the issuance, renewal, suspension, or revocation of an employee's or contractor's security clearance; the execution of a security or suitability investigation; the adjudication of liability; or coverage under FHFA-OIG's liability insurance policy;

(18) To Federal agencies and other public authorities for use in records management inspections, reporting requirements, information collection, including but not limited to, General Services Administration (GSA) as part of GSA's responsibility to recommend improvements in records management practices and programs under authority of 44 U.S.C. 2904 and 2906, OGE, as part of the agency's reporting requirements set forth in 5 CFR 2638, Subpart F, and any other system, program, procedure or circumstance where such disclosure is mandated by Federal statute or regulation;

(19) To victims of a crime in accordance with the Victims' Rights and Restitution Act of 1990 (34 U.S.C. 20141), to the extent appropriate;

(20) To a Federal agency in connection with a pending or prospective administrative enforcement process or mechanism, including but not limited to a suspension, debarment, or suspended counterparty designation; and

(21) To the Council of the Inspectors General on Integrity and Efficiency and its committees, another Federal Office of Inspector General, or other Federal law enforcement office in connection with an allegation of wrongdoing by the Inspector General or by designated FHFA-OIG staff members.

POLICIES AND PRACTICES FOR STORAGE OF RECORDS:

Records are maintained in electronic and paper format. Electronic records are stored in computerized databases. Paper records are stored in locked offices, storage rooms, file cabinets, or safes.

POLICIES AND PRACTICES FOR RETRIEVAL OF RECORDS:

Records are retrieved by name of the auditor, support staff, subject of or witness to the subject matter involving the audit, unique audit number, or job code.

POLICIES AND PRACTICES FOR RETENTION AND DISPOSAL OF RECORDS:

Records in this system will be retained in accordance with approved retention schedules, including: FHFA's Comprehensive Records Schedule Item 7 (N1-543-11-1, approved 01/11/2013), which provides the cut-off and disposition schedules for Inspector General records. Additional approved schedules may apply. Destruction of records shall occur in the manner(s) appropriate to the type of record, such as shredding of paper records and/or deletion of computer records.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked offices, locked file rooms, locked file cabinets, or safes. Access to the records, whether in electronic or paper form, is restricted to those who require the records in the performance of official duties related to the purposes for which the system is maintained.

RECORD ACCESS PROCEDURES:

Individuals seeking access to and/or notification about any record contained in this system of records, or seeking to contest its content, may mail inquiries to the Senior Privacy Official, FHFA-OIG Privacy Office, 400 7th Street SW, 3rd Floor, Washington, DC 20219 or submit them electronically to https://www.fhfaoig.gov/privacy in accordance with instructions appearing at 12 CFR part 1204. This system of records may contain records that are exempt from the notification, access, and contesting records requirements pursuant to the provisions of 5 U.S.C. 552a(j)(2), (k)(2), and (k)(5).

CONTESTING RECORD PROCEDURES:

See “Record Access Procedures” above.

NOTIFICATION PROCEDURES:

See “Record Access Procedures” above.

EXEMPTIONS PROMULGATED FOR THE SYSTEM:

Some records contained within this system of records are exempt from 5 U.S.C. 552a(c)(3), (d)(1), (d)(2), (e)(1), (e)(2), and (e)(3) of the Privacy Act pursuant to 5 U.S.C. 552a(j)(2); 5 U.S.C. 552a(c)(3), (d)(1), (d)(2), and (e)(1) of the Privacy Act pursuant to 5 U.S.C. 552a(k)(2); and 5 U.S.C. 552a(d)(1) of the Privacy Act pursuant to 5 U.S.C. 552a(k)(5). See 12 CFR 1204.7(c), implementing the exemptions in 5 U.S.C. 552a(j)(2), (k)(2), and (k)(5) for FHFA-OIG records. These exemptions are hereby incorporated by reference and are an integral part of this SORN.

HISTORY:

The original version of this SORN was published in the Federal Register on March 2, 2011 (76 FR 11465). It was amended on November 1, 2013 (78 FR 65644).

FHFA-OIG-2

SYSTEM NAME AND NUMBER:

FHFA-OIG Investigative Files Database (FHFA-OIG-2).

SECURITY CLASSIFICATION:

Sensitive but unclassified.

SYSTEM LOCATION:

FHFA-OIG, 400 7th Street SW, Washington, DC 20219, and any alternate work site utilized by FHFA-OIG employees or by individuals assisting such employees.

SYSTEM MANAGER(S):

Deputy Inspector General for Investigations, Office of Inspector General, Federal Housing Finance Agency, 400 7th Street SW, Washington, DC 20219.

AUTHORITY FOR MAINTENANCE OF THE SYSTEM:

The system is established and maintained pursuant to 12 U.S.C. 4517(d) and 5 U.S.C. App. 3.

PURPOSE(S) OF THE SYSTEM:

The purpose of this system of records is to maintain information relevant to complaints received by FHFA-OIG and/or collected and/or generated as part of investigations or inquiries conducted by or under the direction of the Office of Investigations or Hotline, as well as other information collected and/or generated during the course of the Office of Investigations' official duties.

CATEGORIES OF INDIVIDUALS COVERED BY THE SYSTEM:

Employees of and detailees to the Office of Investigations, subjects or potential subjects of investigative activities and individuals who may be, are, or have been witnesses, complainants, informants, subjects, or otherwise involved in circumstances pertaining or relating to a complaint, investigation, or hotline or other inquiry conducted by FHFA-OIG's Office of Investigations.

CATEGORIES OF RECORDS IN THE SYSTEM:

(1) Reports of investigations or inquiries, which may include, but are not limited to, witness statements, affidavits, transcripts, police reports, photographs, documentation concerning requests and approval for consensual telephone and consensual non-telephone monitoring, the subject's prior criminal record, vehicle maintenance records, medical records, accident reports, insurance policies, police reports, and other exhibits and documents collected and/or generated as part of an investigation or inquiry; (2) status and disposition information concerning a complaint, investigation, or inquiry including prosecutive action and/or administrative action; (3) complaints or requests to investigate; (4) subpoenas and evidence obtained in response to a subpoena; (5) evidence logs; (6) pen registers; (7) correspondence; (8) records of seized money and/or property; (9) reports of laboratory examination, photographs, and evidentiary reports; (10) digital image files of physical evidence; (11) documents generated for purposes of FHFA-OIG's undercover activities; (12) documents pertaining to the identity of confidential informants; (13) grand jury material; (14) information or documents pertaining to weapons qualifications and/or use of force training; (15) information or documents pertaining or relating to the processing of hotline complaints by, or under the direction of, FHFA-OIG's Office of Investigations, including information from FHFA-OIG's other systems of records; and (16) other documents collected and/or generated by the Office of Investigations during the course of official duties, including, but not limited to, information from FHFA-OIG's other systems of records.

RECORD SOURCE CATEGORIES:

The OIG collects information from a variety of sources, including FHFA, FHFA's regulated entities, current and former employees of FHFA, other federal agencies/regulators, law enforcement agencies, vendors, contractors, subcontractors, subject individuals, complainants, witnesses, and informants. Records in this system may have originated in other FHFA/FHFA-OIG systems of records and subsequently transferred to this system.

ROUTINE USES OF RECORDS MAINTAINED IN THE SYSTEM, INCLUDING CATEGORIES OF USERS AND THE PURPOSES OF SUCH USES:

These records may be disclosed:

(1) To appropriate Federal, state, local, foreign, territorial, tribal units of government, other public authorities, or self-regulatory organizations responsible for investigating or prosecuting the violations of, or for enforcing or implementing, a statute, rule, regulation, order, or license, when the information indicates a violation or potential violation of law, whether civil, criminal, or regulatory in nature, and whether arising by general statute or particular program statute, or by regulation, rule, or order issued pursuant thereto or is relevant to the recipient entity's law enforcement responsibilities;

(2) To a court, magistrate, grand jury, administrative tribunal, or adjudicative body in the course of presenting evidence, including disclosures to opposing counsel or witnesses in the course of civil discovery, litigation, or settlement negotiations, in response to a subpoena, or in connection with criminal law proceedings, including plea agreements, when OIG is a party or has a significant interest in the proceeding, to the extent that the information is determined to be relevant and necessary;

(3) To an individual member of Congress or a member of his/her staff in response to an inquiry made at the request of the individual who is the subject of the record;

(4) To another Federal agency, state, local, foreign, territorial, tribal units of government, other public authorities, or self-regulatory organizations to (a) permit a decision as to access, amendment or correction of records to be made in consultation with or by that agency or entity, or (b) verify the identity of an individual or the accuracy of information submitted by an individual who has requested access to or amendment or correction of records;

(5) To the Department of Justice, outside counsel retained by FHFA-OIG, or another Federal agency's legal representative when seeking legal advice including, but not limited to, whether to release information covered by the Freedom of Information (5 U.S.C. 552) and Privacy Acts (5 U.S.C. 552a), or the Department of Justice or outside counsel retained by FHFA-OIG is representing FHFA-OIG or any FHFA-OIG employee in his or her official or individual capacity; or when FHFA-OIG is a party to litigation or settlement negotiations or has an interest in litigation or settlement negotiations being conducted by the Department of Justice or outside counsel retained by FHFA-OIG and FHFA-OIG has determined such information to be relevant and necessary to the litigation or settlement negotiations;

(6) To another Federal Office of the Inspector General, law enforcement Task Force, or other Federal, state, local, foreign, territorial, or tribal units of government, other public authorities, or self-regulatory organizations for the purpose of preventing and/or identifying fraud, waste, or abuse related to FHFA's programs or operations;

(7) To the National Archives and Records Administration for use in records management inspections;

(8) To appropriate agencies, entities, and persons when (1) FHFA-OIG suspects or has confirmed that there has been a breach of the system of records; (2) FHFA-OIG has determined that as a result of the suspected or confirmed breach there is a risk of harm to individuals, FHFA-OIG (including its information systems, programs, and operations), the Federal Government, or national security; and (3) the disclosure made to such agencies, entities, and persons is reasonably necessary to assist in connection with FHFA-OIG's efforts to respond to the suspected or confirmed breach or to prevent, minimize, or remedy such harm;

(9) To another Federal agency or Federal entity, when FHFA-OIG determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

(10) To any person or entity, either private or governmental, that FHFA-OIG has reason to believe possesses information regarding a matter within the jurisdiction of FHFA-OIG, to the extent deemed to be necessary by FHFA-OIG to elicit information or cooperation from the recipient for use in the performance of an authorized activity relevant to an FHFA-OIG audit, evaluation, investigation, or inquiry;

(11) To the Equal Employment Opportunity Commission, Merit Systems Protection Board, Federal Labor Relations Authority, Office of Special Counsel, Office of Government Ethics (OGE), Office of Personnel Management, Government Accounting Office, Department of Justice, Office of Management and Budget, arbitrators, and any other Federal agencies or other entity responsible for conducting investigations, other inquiries, administrative actions, hearings, and/or settlement efforts relating to personnel, security clearance, security or suitability or other administrative grievances, complaints, claims, or appeals filed by an employee, or if needed in the performance of other authorized duties;

(12) In situations involving an imminent danger of death or physical injury to an individual or individuals in danger;

(13) To other Federal Offices of Inspector General or other entities, during the conduct of internal and external peer reviews of FHFA-OIG;

(14) To the public or to the media for release to the public when the matter under audit, review, evaluation, investigation, or inquiry has become public knowledge, or when the Inspector General determines that such disclosure is necessary either to preserve confidence in the integrity of FHFA-OIG's audit, review, evaluation, investigative, or inquiry processes or is necessary to demonstrate the accountability of FHFA-OIG employees, officers or individuals covered by the system, unless the Inspector General or his/her delegee determines, after consultation with counsel and the Senior Privacy Official, that release of the specific information in the context of a particular case would constitute an unwarranted invasion of personal privacy;

(15) To Congress, congressional committees, or the staffs thereof, once an FHFA-OIG report or management alert has become final and the Inspector General determines that its disclosure is necessary to fulfill the Inspector General's responsibilities under the Inspector General Act of 1978;

(16) To contractors, experts, consultants, students, and others engaged by FHFA-OIG, when necessary to accomplish an agency function related to this system of records;

(17) To a Federal agency or other entity which requires information relevant to a decision concerning the hiring, appointment, or retention of an employee or contractor; the assignment, detail, or deployment of an employee or contractor; the issuance, renewal, suspension, or revocation of an employee's or contractor's security clearance; the execution of a security or suitability investigation; the adjudication of liability; or coverage under FHFA-OIG's liability insurance policy;

(18) To Federal agencies and other public authorities for use in records management inspections, reporting requirements, information collection, including but not limited to, General Services Administration (GSA) as part of GSA's responsibility to recommend improvements in records management practices and programs under authority of 44 U.S.C. 2904 and 2906, OGE, as part of the agency's reporting requirements set forth in 5 CFR 2638, Subpart F, and any other system, program, procedure or circumstance where such disclosure is mandated by Federal statute or regulation;

(19) To victims of a crime in accordance with the Victims' Rights and Restitution Act of 1990 (34 U.S.C. 20141), to the extent appropriate;

(20) To a Federal agency in connection with a pending or prospective administrative enforcement process or mechanism, including but not limited to a suspension, debarment, or suspended counterparty designation; and

(21) To the Council of the Inspectors General on Integrity and Efficiency and its committees, another Federal Office of Inspector General, or other Federal law enforcement office in connection with an allegation of wrongdoing by the Inspector General or by designated FHFA-OIG staff members.

POLICIES AND PRACTICES FOR STORAGE OF RECORDS:

Records are maintained in electronic and paper format. Electronic records are stored in computerized databases. Paper records are stored in locked offices, storage rooms, file cabinets, or safes.

POLICIES AND PRACTICES FOR RETRIEVAL OF RECORDS:

Records are retrieved by name, Social Security Number, and/or case number.

POLICIES AND PRACTICES FOR RETENTION AND DISPOSAL OF RECORDS:

FHFA's Comprehensive Records Schedule Item 7 (N1-543-11-1, approved 01/11/2013), which provides the cut-off and disposition schedules for Inspector General records. Additional approved schedules may apply. Destruction of records shall occur in the manner(s) appropriate to the type of record, such as shredding of paper records and/or deletion of computer records.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked offices, locked file rooms, locked file cabinets, or safes. Access to the records, whether in electronic or paper form, is restricted to those who require the records in the performance of official duties related to the purposes for which the system is maintained.

RECORD ACCESS PROCEDURES:

Individuals seeking access to and/or notification about any record contained in this system of records, or seeking to contest its content, may mail inquiries to the Senior Privacy Official, FHFA-OIG Privacy Office, 400 7th Street SW, 3rd Floor, Washington, DC 20219 or submit them electronically to https://www.fhfaoig.gov/privacy in accordance with instructions appearing at 12 CFR part 1204. This system of records may contain records that are exempt from the notification, access, and contesting records requirements pursuant to the provisions of 5 U.S.C. 552a(j)(2), (k)(2), and (k)(5).

CONTESTING RECORD PROCEDURES:

See “Record Access Procedures” above.

NOTIFICATION PROCEDURES:

See “Record Access Procedures” above.

EXEMPTIONS PROMULGATED FOR THE SYSTEM:

Some records contained within this system of records are exempt from 5 U.S.C. 552a(c)(3), (d)(1), (d)(2), (e)(1), (e)(2), and (e)(3) of the Privacy Act pursuant to 5 U.S.C. 552a(j)(2); 5 U.S.C. 552a(c)(3), (d)(1), (d)(2), and (e)(1) of the Privacy Act pursuant to 5 U.S.C. 552a(k)(2); and 5 U.S.C. 552a(d)(1) of the Privacy Act pursuant to 5 U.S.C. 552a(k)(5). See 12 CFR 1204.7(c), implementing the exemptions in 5 U.S.C. 552a(j)(2), (k)(2), and (k)(5) for FHFA-OIG records. These exemptions are hereby incorporated by reference and are an integral part of this SORN.

HISTORY:

The original version of this SORN was published in the Federal Register on March 2, 2011 (76 FR 11465). It was amended on November 1, 2013 (78 FR 65644).

FHFA-OIG-3

SYSTEM NAME AND NUMBER:

FHFA-OIG Investigative Document Repository MIS Database (FHFA-OIG-3).

SECURITY CLASSIFICATION:

Sensitive but unclassified.

SYSTEM LOCATION:

FHFA-OIG, 400 7th Street SW, Washington, DC 20219, and any alternate work site utilized by FHFA-OIG employees or by individuals assisting such employees.

SYSTEM MANAGER(S):

Deputy Inspector General for Investigations, Office of Inspector General, Federal Housing Finance Agency, 400 7th Street SW, Washington, DC 20219.

AUTHORITY FOR MAINTENANCE OF THE SYSTEM:

The system is established and maintained pursuant to 12 U.S.C.4517(d) and 5 U.S.C. App. 3.

PURPOSE(S) OF THE SYSTEM:

The purpose of this system of records is to enable Office of Investigations' employees to access, share, restrict, or maintain information that has been collected and/or generated during the course of an investigation or inquiry, as appropriate. Materials relating to an investigation or inquiry may or may not become part of the official case file. The system also serves as a storage and filing system for working copies, drafts, and final versions of documents collected and/or generated by the Office of Investigations in the performance of other official duties.

CATEGORIES OF INDIVIDUALS COVERED BY THE SYSTEM:

Employees of and detailees to the Office of Investigations, subjects or potential subjects of investigative activities and individuals who may be, are, or have been witnesses, complainants, informants, subjects, or otherwise involved in circumstances pertaining or relating to a complaint, investigation, or hotline or other inquiry conducted by FHFA-OIG's Office of Investigations.

CATEGORIES OF RECORDS IN THE SYSTEM:

Working copies, drafts, and final documents that the Office of Investigations is considering or using, or has collected and/or generated while an investigation or inquiry is in progress including but not limited to: (1) Reports of investigations or inquiries, which may include, but are not limited to, witness statements, affidavits, transcripts, police reports, photographs, documentation concerning requests and approval for consensual telephone and consensual non-telephone monitoring, the subject's prior criminal record, vehicle maintenance records, medical records, accident reports, insurance policies, police reports, and other exhibits and documents collected and/or generated as part of an investigation or inquiry; (2) status and disposition information concerning a complaint, investigation, or inquiry including prosecutive action and/or administrative action; (3) complaints or requests to investigate; (4) subpoenas and evidence obtained in response to a subpoena; (5) evidence logs; (6) pen registers; (7) correspondence; (8) records of seized money and/or property; (9) reports of laboratory examination, photographs, and evidentiary reports; (10) digital image files of physical evidence; (11) documents generated for purposes of FHFA-OIG's undercover activities; (12) documents pertaining to the identity of confidential informants; (13) grand jury materials; (14) information or documents pertaining or relating to the processing of hotline complaints by, or under the direction of, FHFA-OIG's Office of Investigations, including information from FHFA-OIG's other systems of records; and (15) any other documents collected and/or generated by the Office of Investigations during the course of official duties, including but not limited to, information from FHFA-OIG's other systems of records, quality assurance reviews, A-123, peer reviews, training documents.

RECORD SOURCE CATEGORIES:

The OIG collects information from a variety of sources, including FHFA, FHFA's regulated entities, current and former employees of FHFA, other federal agencies/regulators, law enforcement agencies, vendors, contractors, subcontractors, subject individuals, complainants, witnesses, and informants. Records in this system may have originated in other FHFA/FHFA-OIG systems of records and subsequently transferred to this system.

ROUTINE USES OF RECORDS MAINTAINED IN THE SYSTEM, INCLUDING CATEGORIES OF USERS AND THE PURPOSES OF SUCH USES:

These records may be disclosed:

(1) To appropriate Federal, state, local, foreign, territorial, tribal units of government, other public authorities, or self-regulatory organizations responsible for investigating or prosecuting the violations of, or for enforcing or implementing, a statute, rule, regulation, order, or license, when the information indicates a violation or potential violation of law, whether civil, criminal, or regulatory in nature, and whether arising by general statute or particular program statute, or by regulation, rule, or order issued pursuant thereto or is relevant to the recipient entity's law enforcement responsibilities;

(2) To a court, magistrate, grand jury, administrative tribunal, or adjudicative body in the course of presenting evidence, including disclosures to opposing counsel or witnesses in the course of civil discovery, litigation, or settlement negotiations, in response to a subpoena, or in connection with criminal law proceedings, including plea agreements, when OIG is a party or has a significant interest in the proceeding, to the extent that the information is determined to be relevant and necessary;

(3) To an individual member of Congress or a member of his/her staff in response to an inquiry made at the request of the individual who is the subject of the record;

(4) To another Federal agency, state, local, foreign, territorial, tribal units of government, other public authorities, or self-regulatory organizations to (a) permit a decision as to access, amendment or correction of records to be made in consultation with or by that agency or entity, or (b) verify the identity of an individual or the accuracy of information submitted by an individual who has requested access to or amendment or correction of records;

(5) To the Department of Justice, outside counsel retained by FHFA-OIG, or another Federal agency's legal representative when seeking legal advice including, but not limited to, whether to release information covered by the Freedom of Information (5 U.S.C. 552) and Privacy Acts (5 U.S.C. 552a), or the Department of Justice or outside counsel retained by FHFA-OIG is representing FHFA-OIG or any FHFA-OIG employee in his or her official or individual capacity; or when FHFA-OIG is a party to litigation or settlement negotiations or has an interest in litigation or settlement negotiations being conducted by the Department of Justice or outside counsel retained by FHFA-OIG and FHFA-OIG has determined such information to be relevant and necessary to the litigation or settlement negotiations;

(6) To another Federal Office of the Inspector General, law enforcement Task Force, or other Federal, state, local, foreign, territorial, or tribal units of government, other public authorities, or self-regulatory organizations for the purpose of preventing and/or identifying fraud, waste, or abuse related to FHFA's programs or operations;

(7) To the National Archives and Records Administration for use in records management inspections;

(8) To appropriate agencies, entities, and persons when (1) FHFA-OIG suspects or has confirmed that there has been a breach of the system of records; (2) FHFA-OIG has determined that as a result of the suspected or confirmed breach there is a risk of harm to individuals, FHFA-OIG (including its information systems, programs, and operations), the Federal Government, or national security; and (3) the disclosure made to such agencies, entities, and persons is reasonably necessary to assist in connection with FHFA-OIG's efforts to respond to the suspected or confirmed breach or to prevent, minimize, or remedy such harm;

(9) To another Federal agency or Federal entity, when FHFA-OIG determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

(10) To any person or entity, either private or governmental, that FHFA-OIG has reason to believe possesses information regarding a matter within the jurisdiction of FHFA-OIG, to the extent deemed to be necessary by FHFA-OIG to elicit information or cooperation from the recipient for use in the performance of an authorized activity relevant to an FHFA-OIG audit, evaluation, investigation, or inquiry;

(11) To the Equal Employment Opportunity Commission, Merit Systems Protection Board, Federal Labor Relations Authority, Office of Special Counsel, Office of Government Ethics (OGE), Office of Personnel Management, Government Accounting Office, Department of Justice, Office of Management and Budget, arbitrators, and any other Federal agencies or other entity responsible for conducting investigations, other inquiries, administrative actions, hearings, and/or settlement efforts relating to personnel, security clearance, security or suitability or other administrative grievances, complaints, claims, or appeals filed by an employee, or if needed in the performance of other authorized duties;

(12) In situations involving an imminent danger of death or physical injury to an individual or individuals in danger;

(13) To other Federal Offices of Inspector General or other entities, during the conduct of internal and external peer reviews of FHFA-OIG;

(14) To the public or to the media for release to the public when the matter under audit, review, evaluation, investigation, or inquiry has become public knowledge, or when the Inspector General determines that such disclosure is necessary either to preserve confidence in the integrity of FHFA-OIG's audit, review, evaluation, investigative, or inquiry processes or is necessary to demonstrate the accountability of FHFA-OIG employees, officers or individuals covered by the system, unless the Inspector General or his/her delegee determines, after consultation with counsel and the Senior Privacy Official, that release of the specific information in the context of a particular case would constitute an unwarranted invasion of personal privacy;

(15) To Congress, congressional committees, or the staffs thereof, once an FHFA-OIG report or management alert has become final and the Inspector General determines that its disclosure is necessary to fulfill the Inspector General's responsibilities under the Inspector General Act of 1978;

(16) To contractors, experts, consultants, students, and others engaged by FHFA-OIG, when necessary to accomplish an agency function related to this system of records;

(17) To a Federal agency or other entity which requires information relevant to a decision concerning the hiring, appointment, or retention of an employee or contractor; the assignment, detail, or deployment of an employee or contractor; the issuance, renewal, suspension, or revocation of an employee's or contractor's security clearance; the execution of a security or suitability investigation; the adjudication of liability; or coverage under FHFA-OIG's liability insurance policy;

(18) To Federal agencies and other public authorities for use in records management inspections, reporting requirements, information collection, including but not limited to, General Services Administration (GSA) as part of GSA's responsibility to recommend improvements in records management practices and programs under authority of 44 U.S.C. 2904 and 2906, OGE, as part of the agency's reporting requirements set forth in 5 CFR 2638, Subpart F, and any other system, program, procedure or circumstance where such disclosure is mandated by Federal statute or regulation;

(19) To victims of a crime in accordance with the Victims' Rights and Restitution Act of 1990 (34 U.S.C. 20141), to the extent appropriate;

(20) To a Federal agency in connection with a pending or prospective administrative enforcement process or mechanism, including but not limited to a suspension, debarment, or suspended counterparty designation; and

(21) To the Council of the Inspectors General on Integrity and Efficiency and its committees, another Federal Office of Inspector General, or other Federal law enforcement office in connection with an allegation of wrongdoing by the Inspector General or by designated FHFA-OIG staff members.

POLICIES AND PRACTICES FOR STORAGE OF RECORDS:

Records are maintained in electronic and paper format. Electronic records are stored in computerized databases. Paper records are stored in locked offices, storage rooms, file cabinets, or safes.

POLICIES AND PRACTICES FOR RETRIEVAL OF RECORDS:

Records are retrieved by name, Social Security Number, and/or case number.

POLICIES AND PRACTICES FOR RETENTION AND DISPOSAL OF RECORDS:

FHFA's Comprehensive Records Schedule Item 7(N1-543-11-1, approved 01/11/2013), which provides the cut-off and disposition schedules for Inspector General records. Additional approved schedules may apply. Destruction of records shall occur in the manner(s) appropriate to the type of record, such as shredding of paper records and/or deletion of computer records.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked offices, locked file rooms, locked file cabinets, or safes. Access to the records, whether in electronic or paper form, is restricted to those who require the records in the performance of official duties related to the purposes for which the system is maintained.

RECORD ACCESS PROCEDURES:

Individuals seeking access to and/or notification about any record contained in this system of records, or seeking to contest its content, may mail inquiries to the Senior Privacy Official, FHFA-OIG Privacy Office, 400 7th Street SW, 3rd Floor, Washington, DC 20219 or submit them electronically to https://www.fhfaoig.gov/privacy in accordance with instructions appearing at 12 CFR part 1204. This system of records may contain records that are exempt from the notification, access, and contesting records requirements pursuant to the provisions of 5 U.S.C. 552a(j)(2), (k)(2), and (k)(5).

CONTESTING RECORD PROCEDURES:

See “Record Access Procedures” above.

NOTIFICATION PROCEDURES:

See “Record Access Procedures” above.

EXEMPTIONS PROMULGATED FOR THE SYSTEM:

Some records contained within this system of records are exempt from 5 U.S.C. 552a(c)(3), (d)(1), (d)(2), (e)(1), (e)(2), and (e)(3) of the Privacy Act pursuant to 5 U.S.C. 552a(j)(2); 5 U.S.C. 552a(c)(3), (d)(1), (d)(2), and (e)(1) of the Privacy Act pursuant to 5 U.S.C. 552a(k)(2); and 5 U.S.C. 552a(d)(1) of the Privacy Act pursuant to 5 U.S.C. 552a(k)(5). See 12 CFR 1204.7(c), implementing the exemptions in 5 U.S.C. 552a(j)(2), (k)(2), and (k)(5) for FHFA-OIG records. These exemptions are hereby incorporated by reference and are an integral part of this SORN.

HISTORY:

The original version of this SORN was published in the Federal Register on March 2, 2011 (76 FR 11465). It was amended on November 1, 2013 (78 FR 65644).

FHFA-OIG-4

SYSTEM NAME AND NUMBER:

FHFA-OIG Non-Criminal Administrative Inquiries Database (FHFA-OIG-4).

SECURITY CLASSIFICATION:

Sensitive but unclassified.

SYSTEM LOCATION:

FHFA-OIG, 400 7th Street SW, Washington, DC 20219, and any alternate work site utilized by FHFA-OIG employees or by individuals assisting such employees.

SYSTEM MANAGER(S):

Deputy Inspector General for Compliance and Special Projects, Office of Inspector General, Federal Housing Finance Agency, 400 7th Street SW, Washington, DC 20219.

AUTHORITY FOR MAINTENANCE OF THE SYSTEM:

The system is established and maintained pursuant to 12 U.S.C. 4517(d) and 5 U.S.C. App. 3.

PURPOSE(S) OF THE SYSTEM:

The purpose of this system is to segregate records collected and/or generated during the course of a non-criminal administrative inquiry conducted by employees of one or more of FHFA-OIG's operational divisions from investigations or inquiries conducted by employees of the Office of Investigations and to enable employees of those operational divisions to access, share, restrict, or maintain information that has been collected and/or generated as part of a non-criminal administrative inquiry, as appropriate. The system also serves as a storage and filing system for working copies, drafts, and final versions of documents collected and/or generated by employees of one or more of FHFA-OIG's operational divisions, other than the Office of Investigations, in the performance of other official duties involving non-criminal administrative inquiries.

CATEGORIES OF INDIVIDUALS COVERED BY THE SYSTEM:

Employees of and detailees to any FHFA-OIG operational division other than the Office of Investigations who are assigned to work on a non-criminal administrative inquiry, individuals who may be, are, or have been witnesses, complainants, informants, subjects, or otherwise involved in circumstances pertaining or relating to a non-criminal administrative inquiry conducted by any FHFA-OIG operational division other than the Office of Investigations.

CATEGORIES OF RECORDS IN THE SYSTEM:

Working copies, drafts, and final documents that any FHFA-OIG operational division other than the Office of Investigations is considering or using, or has collected and/or generated as part of a non-criminal administrative inquiry, including but not limited to: (1) Reports of administrative inquiries pertaining to non-criminal hotline complaints and/or other non-criminal matters; (2) records of interviews and other verbal communications; (3) memos reflecting analysis of facts and law; (4) other documents collected and/or generated by any FHFA-OIG operational division employee, other than those assigned to the Office of Investigations, during the course of official duties pertaining to non-criminal administrative inquiries, including information included in FHFA-OIG's other systems of records. In addition, the system will include basic data about the non-criminal administrative inquiries themselves, including inquiry name, inquiry number, relevant dates and status.

RECORD SOURCE CATEGORIES:

The OIG collects information from a variety of sources, including FHFA, FHFA's regulated entities, current and former employees of FHFA, other federal agencies/regulators, law enforcement agencies, vendors, contractors, subcontractors, subject individuals, complainants, witnesses, and informants. Records in this system may have originated in other FHFA/FHFA-OIG systems of records and subsequently transferred to this system.

ROUTINE USES OF RECORDS MAINTAINED IN THE SYSTEM, INCLUDING CATEGORIES OF USERS AND THE PURPOSES OF SUCH USES:

These records may be disclosed:

(1) To appropriate Federal, state, local, foreign, territorial, tribal units of government, other public authorities, or self-regulatory organizations responsible for investigating or prosecuting the violations of, or for enforcing or implementing, a statute, rule, regulation, order, or license, when the information indicates a violation or potential violation of law, whether civil, criminal, or regulatory in nature, and whether arising by general statute or particular program statute, or by regulation, rule, or order issued pursuant thereto or is relevant to the recipient entity's law enforcement responsibilities;

(2) To a court, magistrate, grand jury, administrative tribunal, or adjudicative body in the course of presenting evidence, including disclosures to opposing counsel or witnesses in the course of civil discovery, litigation, or settlement negotiations, in response to a subpoena, or in connection with criminal law proceedings, including plea agreements, when OIG is a party or has a significant interest in the proceeding, to the extent that the information is determined to be relevant and necessary;

(3) To an individual member of Congress or a member of his/her staff in response to an inquiry made at the request of the individual who is the subject of the record;

(4) To another Federal agency, state, local, foreign, territorial, tribal units of government, other public authorities, or self-regulatory organizations to (a) permit a decision as to access, amendment or correction of records to be made in consultation with or by that agency or entity, or (b) verify the identity of an individual or the accuracy of information submitted by an individual who has requested access to or amendment or correction of records;

(5) To the Department of Justice, outside counsel retained by FHFA-OIG, or another Federal agency's legal representative when seeking legal advice including, but not limited to, whether to release information covered by the Freedom of Information (5 U.S.C. 552) and Privacy Acts (5 U.S.C. 552a), or the Department of Justice or outside counsel retained by FHFA-OIG is representing FHFA-OIG or any FHFA-OIG employee in his or her official or individual capacity; or when FHFA-OIG is a party to litigation or settlement negotiations or has an interest in litigation or settlement negotiations being conducted by the Department of Justice or outside counsel retained by FHFA-OIG and FHFA-OIG has determined such information to be relevant and necessary to the litigation or settlement negotiations;

(6) To another Federal Office of the Inspector General, law enforcement Task Force, or other Federal, state, local, foreign, territorial, or tribal units of government, other public authorities, or self-regulatory organizations for the purpose of preventing and/or identifying fraud, waste, or abuse related to FHFA's programs or operations;

(7) To the National Archives and Records Administration for use in records management inspections;

(8) To appropriate agencies, entities, and persons when (1) FHFA-OIG suspects or has confirmed that there has been a breach of the system of records; (2) FHFA-OIG has determined that as a result of the suspected or confirmed breach there is a risk of harm to individuals, FHFA-OIG (including its information systems, programs, and operations), the Federal Government, or national security; and (3) the disclosure made to such agencies, entities, and persons is reasonably necessary to assist in connection with FHFA-OIG's efforts to respond to the suspected or confirmed breach or to prevent, minimize, or remedy such harm;

(9) To another Federal agency or Federal entity, when FHFA-OIG determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

(10) To any person or entity, either private or governmental, that FHFA-OIG has reason to believe possesses information regarding a matter within the jurisdiction of FHFA-OIG, to the extent deemed to be necessary by FHFA-OIG to elicit information or cooperation from the recipient for use in the performance of an authorized activity relevant to an FHFA-OIG audit, evaluation, investigation, or inquiry;

(11) To the Equal Employment Opportunity Commission, Merit Systems Protection Board, Federal Labor Relations Authority, Office of Special Counsel, Office of Government Ethics (OGE), Office of Personnel Management, Government Accounting Office, Department of Justice, Office of Management and Budget, arbitrators, and any other Federal agencies or other entity responsible for conducting investigations, other inquiries, administrative actions, hearings, and/or settlement efforts relating to personnel, security clearance, security or suitability or other administrative grievances, complaints, claims, or appeals filed by an employee, or if needed in the performance of other authorized duties;

(12) In situations involving an imminent danger of death or physical injury to an individual or individuals in danger;

(13) To other Federal Offices of Inspector General or other entities, during the conduct of internal and external peer reviews of FHFA-OIG;

(14) To the public or to the media for release to the public when the matter under audit, review, evaluation, investigation, or inquiry has become public knowledge, or when the Inspector General determines that such disclosure is necessary either to preserve confidence in the integrity of FHFA-OIG's audit, review, evaluation, investigative, or inquiry processes or is necessary to demonstrate the accountability of FHFA-OIG employees, officers or individuals covered by the system, unless the Inspector General or his/her delegee determines, after consultation with counsel and the Senior Privacy Official, that release of the specific information in the context of a particular case would constitute an unwarranted invasion of personal privacy;

(15) To Congress, congressional committees, or the staffs thereof, once an FHFA-OIG report or management alert has become final and the Inspector General determines that its disclosure is necessary to fulfill the Inspector General's responsibilities under the Inspector General Act of 1978;

(16) To contractors, experts, consultants, students, and others engaged by FHFA-OIG, when necessary to accomplish an agency function related to this system of records;

(17) To a Federal agency or other entity which requires information relevant to a decision concerning the hiring, appointment, or retention of an employee or contractor; the assignment, detail, or deployment of an employee or contractor; the issuance, renewal, suspension, or revocation of an employee's or contractor's security clearance; the execution of a security or suitability investigation; the adjudication of liability; or coverage under FHFA-OIG's liability insurance policy;

(18) To Federal agencies and other public authorities for use in records management inspections, reporting requirements, information collection, including but not limited to, General Services Administration (GSA) as part of GSA's responsibility to recommend improvements in records management practices and programs under authority of 44 U.S.C. 2904 and 2906, OGE, as part of the agency's reporting requirements set forth in 5 CFR 2638, Subpart F, and any other system, program, procedure or circumstance where such disclosure is mandated by Federal statute or regulation;

(19) To victims of a crime in accordance with the Victims' Rights and Restitution Act of 1990 (34 U.S.C. 20141), to the extent appropriate;

(20) To a Federal agency in connection with a pending or prospective administrative enforcement process or mechanism, including but not limited to a suspension, debarment, or suspended counterparty designation; and

(21) To the Council of the Inspectors General on Integrity and Efficiency and its committees, another Federal Office of Inspector General, or other Federal law enforcement office in connection with an allegation of wrongdoing by the Inspector General or by designated FHFA-OIG staff members.

POLICIES AND PRACTICES FOR STORAGE OF RECORDS:

Records are maintained in electronic and paper format. Electronic records are stored in computerized databases. Paper records are stored in locked offices, storage rooms, file cabinets, or safes.

POLICIES AND PRACTICES FOR RETRIEVAL OF RECORDS:

Records are retrieved by name of the employee assigned to the non-criminal administrative inquiry, support staff, name of the complainant, witness, subject of the non-criminal administrative inquiry, unique inquiry number, or job code.

POLICIES AND PRACTICES FOR RETENTION AND DISPOSAL OF RECORDS:

FHFA's Comprehensive Records Schedule Item 7 (N1-543-11-1, approved 01/11/2013), which provides the cut-off and disposition schedules for Inspector General records. Additional approved schedules may apply. Destruction of records shall occur in the manner(s) appropriate to the type of record, such as shredding of paper records and/or deletion of computer records.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked offices, locked file rooms, locked file cabinets, or safes. Access to the records, whether in electronic or paper form, is restricted to those who require the records in the performance of official duties related to the purposes for which the system is maintained.

RECORD ACCESS PROCEDURES:

Individuals seeking access to and/or notification about any record contained in this system of records, or seeking to contest its content, may mail inquiries to the Senior Privacy Official, FHFA-OIG Privacy Office, 400 7th Street SW, 3rd Floor, Washington, DC 20219 or submit them electronically to https://www.fhfaoig.gov/privacy in accordance with instructions appearing at 12 CFR part 1204. This system of records may contain records that are exempt from the notification, access, and contesting records requirements pursuant to the provisions of 5 U.S.C. 552a(j)(2), (k)(2), and (k)(5).

CONTESTING RECORD PROCEDURES:

See “Record Access Procedures” above.

NOTIFICATION PROCEDURES:

See “Record Access Procedures” above.

EXEMPTIONS PROMULGATED FOR THE SYSTEM:

Some records contained within this system of records are exempt from 5 U.S.C. 552a(c)(3), (d)(1), (d)(2), (e)(1), (e)(2), and (e)(3) of the Privacy Act pursuant to 5 U.S.C. 552a(j)(2); 5 U.S.C. 552a(c)(3), (d)(1), (d)(2), and (e)(1) of the Privacy Act pursuant to 5 U.S.C. 552a(k)(2); and 5 U.S.C. 552a(d)(1) of the Privacy Act pursuant to 5 U.S.C. 552a(k)(5). See 12 CFR 1204.7(c), implementing the exemptions in 5 U.S.C. 552a(j)(2), (k)(2), and (k)(5) for FHFA-OIG records. These exemptions are hereby incorporated by reference and are an integral part of this SORN.

HISTORY:

The original version of this SORN was published in the Federal Register on March 2, 2011 (76 FR 11465). It was amended on November 1, 2013 (78 FR 65644).

FHFA-OIG-5

SYSTEM NAME AND NUMBER:

FHFA-OIG Correspondence Database (FHFA-OIG-5).

SECURITY CLASSIFICATION:

Sensitive but unclassified.

SYSTEM LOCATION:

FHFA-OIG, 400 7th Street SW, Washington, DC 20219, and any alternate work site utilized by FHFA-OIG employees or by individuals assisting such employees.

SYSTEM MANAGER(S):

Executive Office, Office of Inspector General, Federal Housing Finance Agency, 400 7th Street SW, Washington, DC 20219.

AUTHORITY FOR MAINTENANCE OF THE SYSTEM:

The system is established and maintained pursuant to 12 U.S.C. 4517(d) and 5 U.S.C. App. 3.

PURPOSE(S) OF THE SYSTEM:

This system consists of correspondence received by FHFA-OIG from individuals and their representatives, oversight committees, and others who conduct business with FHFA-OIG and the responses thereto; it serves as a record of in-coming correspondence and the steps taken to respond thereto.

CATEGORIES OF INDIVIDUALS COVERED BY THE SYSTEM:

(1) Correspondents; (2) persons upon whose behalf correspondence was initiated; and (3) FHFA-OIG personnel responding to correspondents or their representatives.

CATEGORIES OF RECORDS IN THE SYSTEM:

(1) Correspondence received by FHFA-OIG and responses generated thereto; and (2) records used to respond to incoming correspondence, including information included in FHFA-OIG's other systems of records.

RECORD SOURCE CATEGORIES:

The OIG collects information from a variety of sources, including FHFA, FHFA's regulated entities, current and former employees of FHFA, other federal agencies/regulators, law enforcement agencies, vendors, contractors, subcontractors, subject individuals, complainants, witnesses, and informants. Records in this system may have originated in other FHFA/FHFA-OIG systems of records and subsequently transferred to this system.

ROUTINE USES OF RECORDS MAINTAINED IN THE SYSTEM, INCLUDING CATEGORIES OF USERS AND THE PURPOSES OF SUCH USES:

These records may be disclosed:

(1) To appropriate Federal, state, local, foreign, territorial, tribal units of government, other public authorities, or self-regulatory organizations responsible for investigating or prosecuting the violations of, or for enforcing or implementing, a statute, rule, regulation, order, or license, when the information indicates a violation or potential violation of law, whether civil, criminal, or regulatory in nature, and whether arising by general statute or particular program statute, or by regulation, rule, or order issued pursuant thereto or is relevant to the recipient entity's law enforcement responsibilities;

(2) To a court, magistrate, grand jury, administrative tribunal, or adjudicative body in the course of presenting evidence, including disclosures to opposing counsel or witnesses in the course of civil discovery, litigation, or settlement negotiations, in response to a subpoena, or in connection with criminal law proceedings, including plea agreements, when OIG is a party or has a significant interest in the proceeding, to the extent that the information is determined to be relevant and necessary;

(3) To an individual member of Congress or a member of his/her staff in response to an inquiry made at the request of the individual who is the subject of the record;

(4) To another Federal agency, state, local, foreign, territorial, tribal units of government, other public authorities, or self-regulatory organizations to (a) permit a decision as to access, amendment or correction of records to be made in consultation with or by that agency or entity, or (b) verify the identity of an individual or the accuracy of information submitted by an individual who has requested access to or amendment or correction of records;

(5) To the Department of Justice, outside counsel retained by FHFA-OIG, or another Federal agency's legal representative when seeking legal advice including, but not limited to, whether to release information covered by the Freedom of Information (5 U.S.C. 552) and Privacy Acts (5 U.S.C. 552a), or the Department of Justice or outside counsel retained by FHFA-OIG is representing FHFA-OIG or any FHFA-OIG employee in his or her official or individual capacity; or when FHFA-OIG is a party to litigation or settlement negotiations or has an interest in litigation or settlement negotiations being conducted by the Department of Justice or outside counsel retained by FHFA-OIG and FHFA-OIG has determined such information to be relevant and necessary to the litigation or settlement negotiations;

(6) To another Federal Office of the Inspector General, law enforcement Task Force, or other Federal, state, local, foreign, territorial, or tribal units of government, other public authorities, or self-regulatory organizations for the purpose of preventing and/or identifying fraud, waste, or abuse related to FHFA's programs or operations;

(7) To the National Archives and Records Administration for use in records management inspections;

(8) To appropriate agencies, entities, and persons when (1) FHFA-OIG suspects or has confirmed that there has been a breach of the system of records; (2) FHFA-OIG has determined that as a result of the suspected or confirmed breach there is a risk of harm to individuals, FHFA-OIG (including its information systems, programs, and operations), the Federal Government, or national security; and (3) the disclosure made to such agencies, entities, and persons is reasonably necessary to assist in connection with FHFA-OIG's efforts to respond to the suspected or confirmed breach or to prevent, minimize, or remedy such harm;

(9) To another Federal agency or Federal entity, when FHFA-OIG determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

(10) To any person or entity, either private or governmental, that FHFA-OIG has reason to believe possesses information regarding a matter within the jurisdiction of FHFA-OIG, to the extent deemed to be necessary by FHFA-OIG to elicit information or cooperation from the recipient for use in the performance of an authorized activity relevant to an FHFA-OIG audit, evaluation, investigation, or inquiry;

(11) To the Equal Employment Opportunity Commission, Merit Systems Protection Board, Federal Labor Relations Authority, Office of Special Counsel, Office of Government Ethics (OGE), Office of Personnel Management, Government Accounting Office, Department of Justice, Office of Management and Budget, arbitrators, and any other Federal agencies or other entity responsible for conducting investigations, other inquiries, administrative actions, hearings, and/or settlement efforts relating to personnel, security clearance, security or suitability or other administrative grievances, complaints, claims, or appeals filed by an employee, or if needed in the performance of other authorized duties;

(12) In situations involving an imminent danger of death or physical injury to an individual or individuals in danger;

(13) To other Federal Offices of Inspector General or other entities, during the conduct of internal and external peer reviews of FHFA-OIG;

(14) To the public or to the media for release to the public when the matter under audit, review, evaluation, investigation, or inquiry has become public knowledge, or when the Inspector General determines that such disclosure is necessary either to preserve confidence in the integrity of FHFA-OIG's audit, review, evaluation, investigative, or inquiry processes or is necessary to demonstrate the accountability of FHFA-OIG employees, officers or individuals covered by the system, unless the Inspector General or his/her delegee determines, after consultation with counsel and the Senior Privacy Official, that release of the specific information in the context of a particular case would constitute an unwarranted invasion of personal privacy;

(15) To Congress, congressional committees, or the staffs thereof, once an FHFA-OIG report or management alert has become final and the Inspector General determines that its disclosure is necessary to fulfill the Inspector General's responsibilities under the Inspector General Act of 1978;

(16) To contractors, experts, consultants, students, and others engaged by FHFA-OIG, when necessary to accomplish an agency function related to this system of records;

(17) To a Federal agency or other entity which requires information relevant to a decision concerning the hiring, appointment, or retention of an employee or contractor; the assignment, detail, or deployment of an employee or contractor; the issuance, renewal, suspension, or revocation of an employee's or contractor's security clearance; the execution of a security or suitability investigation; the adjudication of liability; or coverage under FHFA-OIG's liability insurance policy;

(18) To Federal agencies and other public authorities for use in records management inspections, reporting requirements, information collection, including but not limited to, General Services Administration (GSA) as part of GSA's responsibility to recommend improvements in records management practices and programs under authority of 44 U.S.C. 2904 and 2906, OGE, as part of the agency's reporting requirements set forth in 5 CFR 2638, Subpart F, and any other system, program, procedure or circumstance where such disclosure is mandated by Federal statute or regulation;

(19) To victims of a crime in accordance with the Victims' Rights and Restitution Act of 1990 (34 U.S.C. 20141), to the extent appropriate;

(20) To a Federal agency in connection with a pending or prospective administrative enforcement process or mechanism, including but not limited to a suspension, debarment, or suspended counterparty designation; and

(21) To the Council of the Inspectors General on Integrity and Efficiency and its committees, another Federal Office of Inspector General, or other Federal law enforcement office in connection with an allegation of wrongdoing by the Inspector General or by designated FHFA-OIG staff members.

POLICIES AND PRACTICES FOR STORAGE OF RECORDS:

Records are maintained in electronic and paper format. Electronic records are stored in computerized databases. Paper records are stored in locked offices, storage rooms, file cabinets, or safes.

POLICIES AND PRACTICES FOR RETRIEVAL OF RECORDS:

Records are retrieved by name of the correspondent and/or name of the individual(s) to whom the record applies.

POLICIES AND PRACTICES FOR RETENTION AND DISPOSAL OF RECORDS:

FHFA's Comprehensive Records Schedule Item 7 (N1-543-11-1, approved 01/11/2013), which provides the retention and disposition schedules for Inspector General records. Additional approved schedules may apply. Destruction of records shall occur in the manner(s) appropriate to the type of record, such as shredding of paper records and/or deletion of computer records.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked offices, locked file rooms, locked file cabinets, or safes. Access to the records, whether in electronic or paper form, is restricted to those who require the records in the performance of official duties related to the purposes for which the system is maintained.

RECORD ACCESS PROCEDURES:

Individuals seeking access to and/or notification about any record contained in this system of records, or seeking to contest its content, may mail inquiries to the Senior Privacy Official, FHFA-OIG Privacy Office, 400 7th Street SW, 3rd Floor, Washington, DC 20219 or submit them electronically to https://www.fhfaoig.gov/privacy in accordance with instructions appearing at 12 CFR part 1204. This system of records may contain records that are exempt from the notification, access, and contesting records requirements pursuant to the provisions of 5 U.S.C. 552a(j)(2), (k)(2), and (k)(5).

CONTESTING RECORD PROCEDURES:

See “Record Access Procedures” above.

NOTIFICATION PROCEDURES:

See “Record Access Procedures” above.

EXEMPTIONS PROMULGATED FOR THE SYSTEM:

Some records contained within this system of records are exempt from 5 U.S.C. 552a(c)(3), (d)(1), (d)(2), (e)(1), (e)(2), and (e)(3) of the Privacy Act pursuant to 5 U.S.C. 552a(j)(2); 5 U.S.C. 552a(c)(3), (d)(1), (d)(2), and (e)(1) of the Privacy Act pursuant to 5 U.S.C. 552a(k)(2); and 5 U.S.C. 552a(d)(1) of the Privacy Act pursuant to 5 U.S.C. 552a(k)(5). See 12 CFR 1204.7(c), implementing the exemptions in 5 U.S.C. 552a(j)(2), (k)(2), and (k)(5) for FHFA-OIG records. These exemptions are hereby incorporated by reference and are an integral part of this SORN.

HISTORY:

The original version of this SORN was published in the Federal Register on March 2, 2011 (76 FR 11465). It was amended on November 1, 2013 (78 FR 65644).

FHFA-OIG-6

SYSTEM NAME AND NUMBER:

FHFA-OIG Evaluations Files Database (FHFA-OIG-6).

SECURITY CLASSIFICATION:

Sensitive but unclassified.

SYSTEM LOCATION:

FHFA-OIG, 400 7th Street SW, Washington, DC 20219, and any alternate work site utilized by FHFA-OIG employees or by individuals assisting such employees.

SYSTEM MANAGER(S):

Deputy Inspector General for Evaluations, Office of Inspector General, Federal Housing Finance Agency, 400 7th Street SW, Washington, DC 20219.

AUTHORITY FOR MAINTENANCE OF THE SYSTEM:

The system is established and maintained pursuant to 12 U.S.C. 4517(d) and 5 U.S.C. App. 3.

PURPOSE(S) OF THE SYSTEM:

This system is maintained to enable Office of Evaluations' employees to access, share, restrict, or maintain information that has been collected and/or generated as part of an evaluation, as appropriate. Materials relating to an evaluation may or may not become part of the official evaluation file. The system also serves as a storage and filing system for working copies, drafts, and final versions of documents collected and/or generated by the Office of Evaluations in the performance of other official duties.

CATEGORIES OF INDIVIDUALS COVERED BY THE SYSTEM:

Employees of and detailees to the Office of Evaluations and subjects or potential subjects of evaluation activities, and individuals who may be, are, or have been witnesses, complainants, informants, subjects, or otherwise involved in circumstances pertaining or relating to an evaluation conducted by FHFA-OIG's Office of Evaluations.

CATEGORIES OF RECORDS IN THE SYSTEM:

Drafts and final documents of the following types: (1) Evaluation reports, white papers, and other reports or studies; (2) working papers, which may include copies of correspondence, evidence, subpoenas, responses to evidence requests, memoranda of interviews conducted, statistical tables; and (3) other documents collected and/or generated by the Office of Evaluations during the course of official duties, including information in FHFA-OIG's other systems of records.

RECORD SOURCE CATEGORIES:

The OIG collects information from a variety of sources, including FHFA, FHFA's regulated entities, current and former employees of FHFA, other federal agencies/regulators, law enforcement agencies, vendors, contractors, subcontractors, subject individuals, complainants, witnesses, and informants. Records in this system may have originated in other FHFA/FHFA-OIG systems of records and subsequently transferred to this system.

ROUTINE USES OF RECORDS MAINTAINED IN THE SYSTEM, INCLUDING CATEGORIES OF USERS AND THE PURPOSES OF SUCH USES:

These records may be disclosed:

(1) To appropriate Federal, state, local, foreign, territorial, tribal units of government, other public authorities, or self-regulatory organizations responsible for investigating or prosecuting the violations of, or for enforcing or implementing, a statute, rule, regulation, order, or license, when the information indicates a violation or potential violation of law, whether civil, criminal, or regulatory in nature, and whether arising by general statute or particular program statute, or by regulation, rule, or order issued pursuant thereto or is relevant to the recipient entity's law enforcement responsibilities;

(2) To a court, magistrate, grand jury, administrative tribunal, or adjudicative body in the course of presenting evidence, including disclosures to opposing counsel or witnesses in the course of civil discovery, litigation, or settlement negotiations, in response to a subpoena, or in connection with criminal law proceedings, including plea agreements, when OIG is a party or has a significant interest in the proceeding, to the extent that the information is determined to be relevant and necessary;

(3) To an individual member of Congress or a member of his/her staff in response to an inquiry made at the request of the individual who is the subject of the record;

(4) To another Federal agency, state, local, foreign, territorial, tribal units of government, other public authorities, or self-regulatory organizations to (a) permit a decision as to access, amendment or correction of records to be made in consultation with or by that agency or entity, or (b) verify the identity of an individual or the accuracy of information submitted by an individual who has requested access to or amendment or correction of records;

(5) To the Department of Justice, outside counsel retained by FHFA-OIG, or another Federal agency's legal representative when seeking legal advice, including, but not limited to, whether to release information covered by the Freedom of Information (5 U.S.C. 552) and Privacy Acts (5 U.S.C. 552a) or when the Department of Justice or outside counsel retained by FHFA-OIG is representing FHFA-OIG or any FHFA-OIG employee in his or her official or individual capacity; or when FHFA-OIG is a party to litigation or settlement negotiations or has an interest in litigation or settlement negotiations being conducted by the Department of Justice or outside counsel retained by FHFA-OIG and FHFA-OIG has determined such information to be relevant and necessary to the litigation or settlement negotiations;

(6) To another Federal Office of the Inspector General, law enforcement Task Force, or other Federal, state, local, foreign, territorial, or tribal units of government, other public authorities, or self-regulatory organizations for the purpose of preventing and/or identifying fraud, waste, or abuse related to FHFA's programs or operations;

(7) To the National Archives and Records Administration for use in records management inspections;

(8) To appropriate agencies, entities, and persons when (1) FHFA-OIG suspects or has confirmed that there has been a breach of the system of records; (2) FHFA-OIG has determined that as a result of the suspected or confirmed breach there is a risk of harm to individuals, FHFA-OIG (including its information systems, programs, and operations), the Federal Government, or national security; and (3) the disclosure made to such agencies, entities, and persons is reasonably necessary to assist in connection with FHFA-OIG's efforts to respond to the suspected or confirmed breach or to prevent, minimize, or remedy such harm;

(9) To another Federal agency or Federal entity, when FHFA-OIG determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

(10) To any person or entity, either private or governmental, that FHFA-OIG has reason to believe possesses information regarding a matter within the jurisdiction of FHFA-OIG, to the extent deemed to be necessary to elicit information or cooperation from the recipient for use in the performance of an authorized activity relevant to an FHFA-OIG audit, evaluation, investigation, or inquiry;

(11) To the Equal Employment Opportunity Commission, Merit Systems Protection Board, Federal Labor Relations Authority, Office of Special Counsel, Office of Government Ethics (OGE), Office of Personnel Management, Government Accounting Office, Department of Justice, Office of Management and Budget, arbitrators, and any other Federal agencies or other entity responsible for conducting investigations, other inquiries, administrative actions, hearings, and/or settlement efforts relating to personnel, security clearance, security or suitability or other administrative grievances, complaints, claims, or appeals filed by an employee, or if needed in the performance of other authorized duties;

(12) In situations involving an imminent danger of death or physical injury to an individual or individuals in danger;

(13) To other Federal Offices of Inspector General or other entities, during the conduct of internal and external peer reviews of FHFA-OIG;

(14) To the public or to the media for release to the public when the matter under audit, review, evaluation, investigation, or inquiry has become public knowledge, or when the Inspector General determines that such disclosure is necessary either to preserve confidence in the integrity of FHFA-OIG's audit, review, evaluation, investigative, or inquiry processes or is necessary to demonstrate the accountability of FHFA-OIG employees, officers or individuals covered by the system, unless the Inspector General or his/her delegee determines, after consultation with counsel and the Senior Privacy Official, that release of the specific information in the context of a particular case would constitute an unwarranted invasion of personal privacy;

(15) To Congress, congressional committees, or the staffs thereof, once an FHFA-OIG report or management alert has become final and the Inspector General determines that its disclosure is necessary to fulfill the Inspector General's responsibilities under the Inspector General Act of 1978;

(16) To contractors, experts, consultants, students, and others engaged by FHFA-OIG, when necessary to accomplish an agency function related to this system of records;

(17) To a Federal agency or other entity which requires information relevant to a decision concerning the hiring, appointment, or retention of an employee or contractor; the assignment, detail, or deployment of an employee or contractor; the issuance, renewal, suspension, or revocation of an employee's or contractor's security clearance; the execution of a security or suitability investigation; the adjudication of liability; or coverage under FHFA-OIG's liability insurance policy;

(18) To Federal agencies and other public authorities for use in records management inspections, reporting requirements, information collection, including but not limited to, General Services Administration (GSA) as part of GSA's responsibility to recommend improvements in records management practices and programs under authority of 44 U.S.C. 2904 and 2906, OGE, as part of the agency's reporting requirements set forth in 5 CFR 2638, Subpart F, and any other system, program, procedure or circumstance where such disclosure is mandated by Federal statute or regulation;

(19) To victims of a crime in accordance with the Victims' Rights and Restitution Act of 1990 (34 U.S.C. 20141), to the extent appropriate;

(20) To a Federal agency in connection with a pending or prospective administrative enforcement process or mechanism, including but not limited to a suspension, debarment, or suspended counterparty designation; and

(21) To the Council of the Inspectors General on Integrity and Efficiency and its committees, another Federal Office of Inspector General, or other Federal law enforcement office in connection with an allegation of wrongdoing by the Inspector General or by designated FHFA-OIG staff members.

POLICIES AND PRACTICES FOR STORAGE OF RECORDS:

Records are maintained in electronic and paper format. Electronic records are stored in computerized databases. Paper records are stored in locked offices, storage rooms, file cabinets, or safes.

POLICIES AND PRACTICES FOR RETRIEVAL OF RECORDS:

Records are retrieved by name of the evaluator, support staff, subject of or witnesses to the evaluation, unique evaluation number, or job code.

POLICIES AND PRACTICES FOR RETENTION AND DISPOSAL OF RECORDS:

FHFA's Comprehensive Records Schedule Item 7 (N1-543-11-1, approved 01/11/2013), which provides the cut-off and disposition schedules for Inspector General records. Additional approved schedules may apply. Destruction of records shall occur in the manner(s) appropriate to the type of record, such as shredding of paper records and/or deletion of computer records.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked offices, locked file rooms, locked file cabinets, or safes. Access to the records, whether in electronic or paper form, is restricted to those who require the records in the performance of official duties related to the purposes for which the system is maintained.

RECORD ACCESS PROCEDURES:

Individuals seeking access to and/or notification about any record contained in this system of records, or seeking to contest its content, may mail inquiries to the Senior Privacy Official, FHFA-OIG Privacy Office, 400 7th Street SW, 3rd Floor, Washington, DC 20219 or submit them electronically to https://www.fhfaoig.gov/privacy in accordance with instructions appearing at 12 CFR part 1204. This system of records may contain records that are exempt from the notification, access, and contesting records requirements pursuant to the provisions of 5 U.S.C. 552a(j)(2), (k)(2), and (k)(5).

CONTESTING RECORD PROCEDURES:

See “Record Access Procedures” above.

NOTIFICATION PROCEDURES:

See “Record Access Procedures” above.

EXEMPTIONS PROMULGATED FOR THE SYSTEM:

Some records contained within this system of records are exempt from 5 U.S.C. 552a(c)(3), (d)(1), (d)(2), (e)(1), (e)(2), and (e)(3) of the Privacy Act pursuant to 5 U.S.C. 552a(j)(2); 5 U.S.C. 552a(c)(3), (d)(1), (d)(2), and (e)(1) of the Privacy Act pursuant to 5 U.S.C. 552a(k)(2); and 5 U.S.C. 552a(d)(1) of the Privacy Act pursuant to 5 U.S.C. 552a(k)(5). See 12 CFR 1204.7(c), implementing the exemptions in 5 U.S.C. 552a(j)(2), (k)(2), and (k)(5) for FHFA-OIG records. These exemptions are hereby incorporated by reference and are an integral part of this SORN.

HISTORY:

The original version of this SORN was published in the Federal Register on November 1, 2013 (78 FR 65644).

FHFA-OIG-7

SYSTEM NAME AND NUMBER:

FHFA-OIG Freedom of Information Act (FOIA), Privacy Act (PA), and FOIA/PA (FOPA) Records (FHFA-OIG-7).

SECURITY CLASSIFICATION:

Sensitive but unclassified.

SYSTEM LOCATION:

FHFA-OIG, 400 7th Street SW, Washington, DC 20219, and any alternate work site utilized by FHFA-OIG employees or by individuals assisting such employees.

SYSTEM MANAGER(S):

Chief Counsel, Office of Inspector General, Federal Housing Finance Agency, 400 7th Street SW, Washington, DC 20219.

AUTHORITY FOR MAINTENANCE OF THE SYSTEM:

The system is established and maintained pursuant to 12 U.S.C. 4517(d), 5 U.S.C. App. 3, the Freedom of Information Act (5 U.S.C. 552), the Privacy Act of 1974 (5 U.S.C. 552a), and 12 CFR parts 1202 and 1204.

PURPOSE(S) OF THE SYSTEM:

The records are collected, used, maintained, and disseminated to process FOIA, PA, and FOPA requests and administrative appeals and/or administrative appeals of final determinations on such requests. The records are also used to prepare reports to the Office of Management and Budget, the Department of Justice, and Congress as required by the FOIA or PA; to participate in litigation arising from FHFA-OIG's decisions and determinations on FOIA, PA, and FOPA requests and administrative appeals, and any other matters relating or pertaining to FOIA, PA, or FOPA requests and/or administrative appeals of final determinations on such requests.

CATEGORIES OF INDIVIDUALS COVERED BY THE SYSTEM:

Individuals who have submitted requests for information pursuant to the FOIA; individuals who have submitted requests for records about themselves under the provisions of the PA; individuals who have submitted a hybrid request for information under the FOIA and for information about themselves under the PA (FOPA); attorneys or other individuals authorized to represent and/or receive information on behalf of a FOIA, PA, or FOPA requester or individual filing an administrative appeal regarding such requests; individuals whose requests, appeals or other records have been referred to FHFA-OIG by other agencies; individuals who have been asked to consult as part of the FOIA (b)(4) exemption process; individuals filing an administrative appeal of a denial, in whole or part, of any such requests; individuals filing a civil action in federal court of a denial, in whole or part, of any such requests; employees of and detailees to the Office of Counsel who process and/or respond to FOIA, PA, FOPA requests or administrative appeals; and any other individual otherwise involved in circumstances pertaining or relating to the processing of a FOIA, PA, or FOPA request or administrative appeal.

CATEGORIES OF RECORDS IN THE SYSTEM:

Records submitted, created, retrieved and/or compiled in response to FOIA, PA, and FOPA requests and/or administrative appeals of final determinations on such requests, including original requests and administrative appeals; responses to requests and administrative appeals including but not limited to acknowledgement letters, fee estimations, waivers, and other fee issues, requests for expedited review, verifications of identification, final determination letters, and copies of responsive records; internal memoranda, analyses, notes, and other records concerning the applicability of exemptions, exceptions, or other issues concerning FOIA, PA, FOPA determinations; emails or other correspondence between or among employees who process and/or respond to FOIA, PA, and FOPA requests or administrative appeals; emails or other correspondence between or among employees who process and/or respond to FOIA, PA, and FOPA requests or administrative appeals and other individuals associated with the FOIA, PA, and FOPA process, including, but not limited to: Requesters, operational division staff members, employees of referring agencies, individuals with whom consultation is undertaken, representatives or attorneys; memoranda to or from other federal agencies having a substantial interest in the determination of the request; civil actions filed in federal court of a denial, in whole or part, of any such requests; and any other records submitted, created, retrieved and/or compiled during the course of performing official duties relating or pertaining to FOIA, PA, or FOPA requests and/or administrative appeals of final determinations on such requests, including information contained FHFA-OIG's other systems of records.

The records may contain personal information submitted, created, retrieved and/or compiled in response to FOIA, PA, FOPA requests and/or administrative appeals of a final determination on such requests including, but not limited to: Names, property and email addresses, phone numbers, loan information, tracking numbers, identity verification information including birth places and dates, or other personal identifying information supplied by individuals making FOIA, PA, or FOPA requests. These records may contain inquiries and requests regarding any of FHFA-OIG's other systems of records subject to the FOIA and PA, and information about individuals from any of these other systems may become part of this system of records.

RECORD SOURCE CATEGORIES:

The OIG collects information from a variety of sources, including FHFA, FHFA's regulated entities, current and former employees of FHFA, other federal agencies/regulators, law enforcement agencies, vendors, contractors, subcontractors, subject individuals, complainants, witnesses, informants, and persons requesting agency records under the FOIA and the Privacy Act. Records in this system may have originated in other FHFA/FHFA-OIG systems of records and subsequently transferred to this system.

ROUTINE USES OF RECORDS MAINTAINED IN THE SYSTEM, INCLUDING CATEGORIES OF USERS AND THE PURPOSES OF SUCH USES:

These records may be disclosed:

(1) To appropriate Federal, state, local, and foreign authorities responsible for investigating or prosecuting the violations of, or for enforcing or implementing, a statute, rule, regulation, order, or license, when the information indicates a violation or potential violation of law, whether civil, criminal, or regulatory in nature, and whether arising by general statute or particular program statute, or by regulation, rule, or order issued pursuant thereto or is relevant to the recipient entity's law enforcement responsibilities;

(2) To a court, magistrate, grand jury, administrative tribunal, or adjudicative body in the course of presenting evidence, including disclosures to opposing counsel or witnesses in the course of civil discovery, litigation, or settlement negotiations, in response to a subpoena, or in connection with criminal law proceedings, including plea agreements, when OIG is a party or has a significant interest in the proceeding, to the extent that the information is determined to be relevant and necessary;

(3) To a member of Congress or a member of his/her staff in response to an inquiry made at the request of the individual who is the subject of the record;

(4) To another Federal government agency having a substantial interest in the determination of the request or for the purpose of consulting with that agency as to the propriety of access or correction of the record in order to complete the processing of requests;

(5) To the National Archives and Records Administration, Office of Government Information Services (OGIS), to the extent necessary to fulfill its responsibilities in 5 U.S.C. 552(b), to review administrative agency policies, procedures, and compliance with the Freedom of Information Act, and to facilitate OGIS mediation services to resolve disputes between persons making FOIA requests and administrative agencies.

(6) To appropriate agencies, entities, and persons when (1) FHFA-OIG suspects or has confirmed that there has been a breach of the system of records; (2) FHFA-OIG has determined that as a result of the suspected or confirmed breach there is a risk of harm to individuals, FHFA-OIG (including its information systems, programs, and operations), the Federal Government, or national security; and (3) the disclosure made to such agencies, entities, and persons is reasonably necessary to assist in connection with FHFA-OIG's efforts to respond to the suspected or confirmed breach and prevent, minimize, or remedy such harm;

(7) To another Federal agency or Federal entity, when FHFA-OIG determines that information from this system of records is reasonably necessary to assist the recipient agency or entity in (1) responding to a suspected or confirmed breach; or (2) preventing, minimizing, or remedying the risk of harm to individuals, the recipient agency or entity (including its information systems, programs, and operations), the Federal Government, or national security, resulting from a suspected or confirmed breach.

(8) To other Federal Offices of Inspector General or other entities, during the conduct of internal and external peer reviews of FHFA-OIG;

(9) To contractors, experts, consultants, students, and others engaged by FHFA-OIG, when necessary to accomplish an agency function related to this system of records;

(10) To appropriate Federal agencies and other public authorities for use in records management inspections; and

(11) To the Council of the Inspectors General on Integrity and Efficiency and its committees, another Federal Office of Inspector General, or other Federal law enforcement office in connection with an allegation of wrongdoing by the Inspector General or by designated FHFA-OIG staff members.

POLICIES AND PRACTICES FOR STORAGE OF RECORDS:

Records are maintained in electronic and paper format. Electronic records are stored in computerized databases. Paper records are stored in locked offices, storage rooms, file cabinets, or safes.

POLICIES AND PRACTICES FOR RETRIEVAL OF RECORDS:

Records in this SOR are retrieved by the requester's name, representative's name, or by unique log number assigned to the request. Records sometimes are retrieved by reference to the name of the requester's firm or the representative's firm, if any, or the subject matter of the request.

POLICIES AND PRACTICES FOR RETENTION AND DISPOSAL OF RECORDS:

FHFA's Comprehensive Records Schedule Item 7 (N1-543-11-1, approved 01/11/2013), which provides the cut-off and disposition schedules for Inspector General records. Additional approved schedules may apply. Destruction of records shall occur in the manner(s) appropriate to the type of record, such as shredding of paper records and/or deletion of computer records.

ADMINISTRATIVE, TECHNICAL, AND PHYSICAL SAFEGUARDS:

Records are safeguarded in a secured environment. Buildings where records are stored have security cameras and 24-hour security guard service. Computerized records are safeguarded through use of access codes and other information technology security measures. Paper records are safeguarded by locked offices, locked file rooms, locked file cabinets, or safes. Access to the records, whether in electronic or paper form, is restricted to those who require the records in the performance of official duties related to the purposes for which the system is maintained.

RECORD ACCESS PROCEDURES:

Individuals seeking access to and notification about any record contained in this system of records, or seeking to contest its content, may mail inquiries to the Senior Privacy Official, FHFA-OIG Privacy Office, 400 7th Street SW, 3rd Floor, Washington, DC 20219 or submit them electronically to https://www.fhfaoig.gov/privacy in accordance with instructions appearing at 12 CFR part 1204. This system of records may contain records that are exempt from the notification, access, and contesting records requirements pursuant to the provisions of 5 U.S.C. 552a(j)(2), (k)(2), and (k)(5).

CONTESTING RECORD PROCEDURES:

See “Record Access Procedures” above.

NOTIFICATION PROCEDURES:

See “Record Access Procedures” above.

EXEMPTIONS PROMULGATED FOR THE SYSTEM:

Some records contained within this system of records are exempt from 5 U.S.C. 552a(c)(3), (d)(1), (d)(2), (e)(1), (e)(2), and (e)(3) of the Privacy Act pursuant to 5 U.S.C. 552a(j)(2); 5 U.S.C. 552a(c)(3), (d)(1), (d)(2), and (e)(1) of the Privacy Act pursuant to 5 U.S.C. 552a(k)(2); and 5 U.S.C. 552a(d)(1) of the Privacy Act pursuant to 5 U.S.C. 552a(k)(5). See 12 CFR 1204.7(c), implementing the exemptions in 5 U.S.C. 552a(j)(2), (k)(2), and (k)(5) for FHFA-OIG records. These exemptions are hereby incorporated by reference and are an integral part of this SORN.

HISTORY:

FHFA-OIG was covered by FHFA's Freedom of Information Act and Privacy Act Records (FHFA-13) which was published in the Federal Register on June 8, 2011 (76 FR 33286).

Leonard DePasquale,
Chief Counsel.

[FR Doc. 2021-04796 Filed 3-8-21; 8:45 am]

BILLING CODE 8070-01-P